DEPARTMENT OF THE INTERIOR

Fish and Wildlife Service

[FWS-R8-ES-2020-N120; FXES11140800000-201-FF08ECAR00]

Notice of Availability; Amendment to the Multiple Species Conservation Program, County of San Diego Subarea Plan for Otay Ranch Village 14 and Planning Areas 16 and 19, San Diego County, California; Environmental Assessment; Reopening of Public Comment Period

AGENCY: Fish and Wildlife Service, Interior.

ACTION: Notice of availability; reopening of public comment period.

SUMMARY: The U.S. Fish and Wildlife Service (Service) is reopening the public comment period for the draft environmental assessment (DEA) and proposed Otay Ranch amendment to the County of San Diego's Multiple Species Conservation Program Subarea Plan (Amendment).

DATES: The comment period for the DEA and Amendment, which published on July 23, 2020 (85 FR 44544), is reopened. Please submit your written comments by 11:59 p.m. PST on September 4, 2020.

ADDRESSES: Document availability: To view the DEA and Amendment, go to the U.S. Fish and Wildlife Service's Carlsbad Field Office website at https://www.fws.gov/carlsbad/HCP_Docs.html.

Submitting comments: You may submit comments by one of the following methods. If you have already submitted a comment, you need not resubmit it.

• U.S. Mail: Carlsbad Fish and Wildlife Office, U.S. Fish and Wildlife Service, 2177 Salk Avenue, Suite 250, Carlsbad, CA 92008.

• Email: fw8cfwocomments@fws.gov.

We request that you submit comments by only the methods described above.

FOR FURTHER INFORMATION CONTACT: Susan Wynn, Carlsbad Fish and Wildlife Office, 760-431-9440. If you use a telecommunications device for the deaf (TDD), please call the Federal Relay Service (FRS) at 800-877-8339.

SUPPLEMENTARY INFORMATION: The U.S. Fish and Wildlife Service (Service) received an incidental take permit (ITP) application for an Amendment to the Multiple Species Conservation Program, County of San Diego Subarea Plan for Otay Ranch Village 14 and Planning Areas 16 and 19, on May 21, 2020, from the County of San Diego in accordance with the requirements of the Endangered Species Act, as amended (ESA; 16 U.S.C. 1531 et seq.). The EA also analyzes the environmental consequences of a proposed land disposal and exchange for 219.4 acres of land that was acquired, in part, from a Federal cooperative agreement and an Endangered Species Act section 6 Habitat Conservation Plan Land Acquisition grant. For more information, see the July 23, 2020 (85 FR 44544), notice.

We are reopening the public comment period on the DEA and Amendment documents (see DATES and ADDRESSES).

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Scott Sobiech,
Field Supervisor, Carlsbad Fish and Wildlife Office, Carlsbad, California.

[FR Doc. 2020-18789 Filed 8-21-20; 4:15 pm]

BILLING CODE 4333-15-P